FEDERAL COMMUNICATIONS COMMISSION

[DA 16-1230]

Consumer Advisory Committee

AGENCY: Federal Communications Commission.

ACTION: Notice.

SUMMARY: The Commission announces renewal of charter, appointment of members, designation of chairperson, and next meeting date, time, and agenda of its Consumer Advisory Committee (hereinafter the Committee). The mission of the Committee is to make recommendations to the Commission regarding consumer issues within the jurisdiction of the Commission and to facilitate the participation of consumers (including underserved populations, such as Native Americans, persons living in rural areas, older persons, people with disabilities, and persons for whom English is not their primary language) in proceedings before the Commission.

DATES: January 27, 2017, 9:00 a.m. to 4:00 p.m.

ADDRESSES: Federal Communications Commission, Commission Meeting Room TW-C305, 445 12th Street SW., Washington, DC 20554.

FOR FURTHER INFORMATION CONTACT: Scott Marshall, Designated Federal Officer of the Committee at: 202-418-2809 (voice or relay) or Scott.Marshall@fcc.gov (email), or Beau Finley, Deputy Designated Federal Officer of the Committee at: 202-418-7835 (voice or relay) or Robert.Finley@fcc.gov (email).

SUPPLEMENTARY INFORMATION: This is a summary of the Commission's document DA 16-1230, released October 31, 2016 announcing the charter renewal, appointment of members, designation of chairperson, and the Agenda, Date, and Time of the Committee's first Meeting under its renewed charter.

Mission and Functions

The mission of the Committee is to make recommendations to the Commission regarding consumer issues within the jurisdiction of the Commission and to facilitate the participation of consumers (including underserved populations, such as Native Americans, persons living in rural areas, older persons, people with disabilities, and persons for whom English is not their primary language) in proceedings before the Commission. The Committee may consider issues including, but not limited to, the following topics:

• Consumer protection and education;

• Implementation of Commission rules and consumer participation in the FCC rulemaking process; and,

• The impact of new and emerging communication technologies (including availability and affordability of broadband service and Universal Service programs).

The duties of the Committee will include providing guidance to the Commission, to gather data and information, and to perform those analyses that are necessary to respond to the questions or matters before it.

Background

In November 2000, the Committee was initially established for a period of two (2) years from the original charter date. Following expiration of the original charter, the Committee was subsequently renewed several times. On October 14, 2016, the Committee held the final meeting of its most recent term, and thereafter, the Committee's charter, and all member appointments, terminated. The charter was renewed on October 21, 2016, for another two-year term, the ninth such renewal. This renewal is necessary and in the public interest. The Committee will operate in accordance with the provisions of the Federal Advisory Committee Act, 5 U.S.C. App. 2 (1988). Each meeting of the Committee will be open to the public. A notice of each meeting will be published in the Federal Register at least fifteen (15) days in advance of the meeting. Records will be maintained of each meeting and made available for public inspection.

During the Committee's ninth term, it is anticipated that the Committee will meet in Washington, DC for a minimum of three (3) one-day plenary meetings per year. In addition, as needed, working groups or subcommittees will be established to facilitate the Committee's work between meetings of the full Committee. Meetings will be fully accessible to individuals with disabilities.

Members must be willing to commit to a two (2) year term of service, and should be willing and able to attend a minimum of three (3) one-day plenary committee meetings per year in Washington, DC. Committee members are also expected to participate in deliberations of at least one (1) working group or subcommittee.

Appointment of Members and Chairperson

In anticipation of the renewal of the Committee's charter, by a Public Notice (DA 16-657) released June 14, 2016, the Commission solicited applications for membership on the Committee for its ninth two-year term. The application deadline was July 25, 2016.

After a review of the applications received, Chairman Tom Wheeler hereby appoints twenty-nine (29) members to the Committee. Of these, seventeen (17) represent interests of general consumers, two (2) represent interests of people with disabilities, six (6) represent interest of industry, one (1) represents minority interests, two (2) represent interests of quasi-government/regulators, and one (1) represents interests of seniors. The Committee's membership is designed to be representative of the Commission's many constituencies, and the diversity of the selected members will provide a balanced point of view as required by the Federal Advisory Committee Act. In addition, Chairman Wheeler designates Eduard Bartholme representing Call For Action as Chairperson of the Committee. All appointments and reappointments are effective October 21, 2016, and shall terminate October 21, 2018, or when the Committee is terminated, whichever is earlier.

The Committee's roster by organization name and primary representative is as follows:

(1) AARP, Coralette Hannon, Senior Legislative Representative

(2) American Cable Association, Ross J. Lieberman, Senior Vice President, Governmental Affairs

(3) American Consumer Institute, Steve Pociask, President/CEO

(4) American Foundation for the Blind, Mark Richert, Director Public Policy and Senior Advisor Strategic Initiatives

(5) Americans for Tax Reform, Katie McAuliffe, Federal Affairs Manager

(6) Appalachian Regional Commission, Mark Defalco, Manager

(7) Benton Foundation, Ms. Amina Fazlullah, Director of Policy

(8) Call For Action, Eduard Bartholme, Executive Director

(9) Center for Media Justice/Media Action Grassroots Network (MAGNET), Paul Goodman, Legal Counsel, Greenlining Institute

(10) Competitive Carriers Association, Elizabeth Barket, Law and Regulatory Counsel

(11) Consumer Action, Ken McEldowney, Executive Director

(12) Consumer Federation of America, Irene E. Leech, Ph.D.

(13) Consumers Union, Jonathan Schwantes, Senior Counsel, Telecommunications Policy

(14) CTIA, Krista L. Witanowski, Assistant Vice President, Regulatory Affairs

(15) Deaf and Hard of Hearing Consumer Advocacy Network, Zainab Alkebsi, Policy Counsel, National Association of the Deaf

(16) Electronic Privacy Information Center, Claire Gartland, EPIC Consumer Protection Counsel

(17) Free Press, Dana Floberg, Research Fellow

(18) Mass. Department of Telecommunications & Cable, Joslyn Day, Director, Consumer Division

(19) National Association of Broadcasters, Larry Walke, Associate General Counsel, Legal and Regulatory Affairs

(20) National Association of State Utility Consumer Advocates, Kenneth Mallory, Esq., Assistant People's Counsel

(21) National Hispanic Media Coalition, Andy Lomeli, Policy Associate

(22) National Association of Telecommunications Officers and Advisors, Mitsuko R. Herrera, Tech Policy, Planning

(23) National Consumers League, Debra R. Berlyn, Board Member & Officer

(24) National Consumer Law Center, Olivia Wein, Lead Telecom Attorney

(25) National Cable and Telecommunications Association, Steven Morris, Vice President and Associate General Counsel

(26) National Digital Inclusion Alliance, Angela Siefer, Director

(27) New America Foundation, Open Technology Institute, Eric Null, Policy Counsel

(28) Public Knowledge, Dallas Harris, Policy Fellow

(29) USTelecom, B. Lynn Follansbee, Vice President Law & Policy

Meeting Agenda

At its January 27, 2017, meeting, the Committee will consider administrative and procedural matters relating to its functions. The Committee may receive briefings from commission staff on issues of interest to the Committee. A limited amount of time will be available on the agenda for comments from the public. If time permits, the public may ask questions of presenters via the email address livequestions@fcc.gov or via Twitter using the hashtag #fcclive. Alternatively, members of the public may send written comments to: Scott Marshall, Designated Federal Officer of the Committee at the address provided below.

The meeting is open to the public and the site is fully accessible to people using wheelchairs or other mobility aids. Sign language interpreters, open captioning, assistive listening devices, and Braille copies of the agenda and committee roster will be provided on site. Meetings of the Committee are also broadcast live with open captioning over the Internet from the FCC Live Web page at www.fcc.gov/live/. In addition, the public may also follow the meeting on Twitter @fcc or via the Commission's Facebook page at www.facebook.com/fcc.

Other reasonable accommodations for people with disabilities are available upon request. The request should include a detailed description of the accommodation needed and contact information. Please provide as much advance notice as possible; last minute requests will be accepted, but may not be possible to fill. To request an accommodation, send an email to fcc504@fcc.gov or call the Consumer and Governmental Affairs Bureau at 202-418-0530 (voice), 202-418-0432 (TTY).

For further information contact the Designated Federal Officer of the Committee, Scott Marshall, at 202-418-2809 (voice or relay) or Scott.Marshall@fcc.gov (email), or the Deputy Designated Federal Officer of the Committee, Beau Finley, at 202-418-7835 (voice or relay) or Robert.Finley@fcc.gov (email).

Federal Communications Commission.
D'wana R. Terry,
Acting Deputy Chief, Consumer and Governmental Affairs Bureau.

[FR Doc. 2016-27583 Filed 11-16-16; 8:45 am]

BILLING CODE 6712-01-P